DEPARTMENT OF ENERGY

Federal Energy Regulatory Commission

Combined Notice of Filings #1

Take notice that the Commission received the following electric corporate filings:

Docket Numbers: EC23-62-000.

Applicants: Landrace Holdings, LLC, PGR 2021 Lessee 18, LLC.

Description: Joint Application for Authorization Under Section 203 of the Federal Power Act of Landrace Holdings, LLC, et al.

Filed Date: 3/17/23.

Accession Number: 20230317-5121.

Comment Date: 5 p.m. ET 4/7/23.

Docket Numbers: EC23-63-000.

Applicants: Virginia Line Solar, LLC, PGR 2022 Lessee 1, LLC.

Description: Joint Application for Authorization Under Section 203 of the Federal Power Act of Virginia Line Solar, LLC, et al.

Filed Date: 3/17/23.

Accession Number: 20230317-5125.

Comment Date: 5 p.m. ET 4/7/23.

Take notice that the Commission received the following exempt wholesale generator filings:

Docket Numbers: EG00-32-001.

Applicants: Fresno Cogeneration Partners, L.P.

Description: Fresno Cogeneration Partners, L.P. submits Notice of Material Change in Facts of Self-Certification of Exempt Wholesale Generator Status.

Filed Date: 3/6/23.

Accession Number: 20230306-5198.

Comment Date: 5 p.m. ET 3/27/23.

Docket Numbers: EG14-16-001.

Applicants: Fortistar North Tonawanda Inc.

Description: Fortistar North Tonawanda LLC submits Notice of Self-Certification of Exempt Wholesale Generator Status.

Filed Date: 3/9/23.

Accession Number: 20230309-5243.

Comment Date: 5 p.m. ET 3/30/23.

Docket Numbers: EG23-97-000.

Applicants: PGR 2022 Lessee 1, LLC.

Description: PGR 2022 Lessee 1, LLC submits Notice of Self-Certification of Exempt Wholesale Generator Status.

Filed Date: 3/16/23.

Accession Number: 20230316-5146.

Comment Date: 5 p.m. ET 4/6/23.

Docket Numbers: EG23-98-000.

Applicants: Remy Jade II, LLC.

Description: Remy Jade II, LLC submits Notice of Self-Certification of Exempt Wholesale Generator Status.

Filed Date: 3/16/23.

Accession Number: 20230316-5155.

Comment Date: 5 p.m. ET 4/6/23.

Take notice that the Commission received the following electric rate filings:

Docket Numbers: ER21-2695-002.

Applicants: Lincoln Land Wind, LLC.

Description: Midcontinent Independent System Operator, Inc. submits tariff filing per 35.19a(b): Refund Report__Lincoln Land Wind, LLC to be effective N/A.

Filed Date: 3/16/23.

Accession Number: 20230316-5183.

Comment Date: 5 p.m. ET 4/6/23.

Docket Numbers: ER22-93-001.

Applicants: Tatanka Ridge Wind, LLC.

Description: Midcontinent Independent System Operator, Inc. submits tariff filing per 35.19a(b): Refund Report__Tatanka Ridge Wind, LLC to be effective N/A.

Filed Date: 3/16/23.

Accession Number: 20230316-5184.

Comment Date: 5 p.m. ET 4/6/23.

Docket Numbers: ER22-526-001.

Applicants: Glacier Sands Wind Power, LLC.

Description: Midcontinent Independent System Operator, Inc. submits tariff filing per 35.19a(b): Refund Report__Glacier Sands Wind Power, LLC to be effective N/A.

Filed Date: 3/16/23.

Accession Number: 20230316-5185.

Comment Date: 5 p.m. ET 4/6/23.

Docket Numbers: ER23-762-001.

Applicants: The Dayton Power and Light Company, PJM Interconnection, L.L.C.

Description: Compliance Filing of The Dayton Power & Light Company with respect to the five planned transmission projects.

Filed Date: 3/8/23.

Accession Number: 20230308-5180.

Comment Date: 5 p.m. ET 3/29/23.

Docket Numbers: ER23-1409-000.

Applicants: Pacific Gas and Electric Company.

Description: § 205(d) Rate Filing: Amendment to Sillicon Valley Power GDMSA (RS 248) to be effective 1/18/2023.

Filed Date: 3/17/23.

Accession Number: 20230317-5000.

Comment Date: 5 p.m. ET 4/7/23.

Docket Numbers: ER23-1410-000.

Applicants: Fifth Standard Solar PV, LLC.

Description: Baseline eTariff Filing: Application for Market Based Rate to be effective 4/21/2023.

Filed Date: 3/17/23.

Accession Number: 20230317-5002.

Comment Date: 5 p.m. ET 4/7/23.

Docket Numbers: ER23-1411-000.

Applicants: Newport Solar LLC.

Description: Baseline eTariff Filing: Newport Solar Application for MBR Authority w/Waivers & Expedited Consideration to be effective 3/20/2023.

Filed Date: 3/17/23.

Accession Number: 20230317-5003.

Comment Date: 5 p.m. ET 4/7/23.

Docket Numbers: ER23-1412-000.

Applicants: PacifiCorp.

Description: § 205(d) Rate Filing: Calpine NITSA Rev 17 to be effective 3/1/2023.

Filed Date: 3/17/23.

Accession Number: 20230317-5024.

Comment Date: 5 p.m. ET 4/7/23.

Docket Numbers: ER23-1413-000.

Applicants: Landrace Holdings, LLC.

Description: Baseline eTariff Filing: Landrace Holdings, LLC MBR Tariff to be effective 3/18/2023.

Filed Date: 3/17/23.

Accession Number: 20230317-5051.

Comment Date: 5 p.m. ET 4/7/23.

Docket Numbers: ER23-1414-000.

Applicants: PGR 2021 Lessee 18, LLC.

Description: Baseline eTariff Filing: PGR 2021 Lessee 18, LLC MBR Tariff to be effective 3/18/2023.

Filed Date: 3/17/23.

Accession Number: 20230317-5052.

Comment Date: 5 p.m. ET 4/7/23.

Docket Numbers: ER23-1415-000.

Applicants: Virginia Line Solar, LLC.

Description: Baseline eTariff Filing: Virginia Line Solar, LLC MBR Tariff to be effective 3/18/2023.

Filed Date: 3/17/23.

Accession Number: 20230317-5053.

Comment Date: 5 p.m. ET 4/7/23.

Docket Numbers: ER23-1416-000.

Applicants: PGR 2022 Lessee 1, LLC.

Description: Baseline eTariff Filing: PGR 2022 Lessee 1, LLC MBR Tariff to be effective 3/18/2023.

Filed Date: 3/17/23.

Accession Number: 20230317-5054.

Comment Date: 5 p.m. ET 4/7/23.

Docket Numbers: ER23-1417-000.

Applicants: Alabama Power Company, Georgia Power Company, Mississippi Power Company.

Description: Tariff Amendment: Alabama Power Company submits tariff filing per 35.15: Blackbriar Farm LGIA Termination Filing to be effective 3/17/2023.

Filed Date: 3/17/23.

Accession Number: 20230317-5072.

Comment Date: 5 p.m. ET 4/7/23.

Docket Numbers: ER23-1418-000.

Applicants: AES WR Limited Partnership.

Description: Baseline eTariff Filing: Application for Market Based Rate to be effective 6/1/2023.

Filed Date: 3/17/23.

Accession Number: 20230317-5084.

Comment Date: 5 p.m. ET 4/7/23.

Docket Numbers: ER23-1419-000.

Applicants: PJM Interconnection, L.L.C.

Description: § 205(d) Rate Filing: Original NSA, SA No. 6833; Queue No. AE2-148 to be effective 2/17/2023.

Filed Date: 3/17/23.

Accession Number: 20230317-5089.

Comment Date: 5 p.m. ET 4/7/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2023.
Debbie-Anne A. Reese,
Deputy Secretary.

[FR Doc. 2023-06009 Filed 3-22-23; 8:45 am]

BILLING CODE 6717-01-P